ELECTION ASSISTANCE COMMISSION

Notice of Public Meeting for EAC Standards Board

AGENCY: U.S. Election Assistance Commission.

ACTION: Notice of public meeting for EAC Standards Board.

Date & Time: Thursday, April 11, 2019, 8:30 a.m.-5 p.m. thru Friday, April 12, 2019, 8-11 a.m. [Executive Board Session: Thursday, April 11, 2019, 7:30 p.m. (administrative business only)].

Place: The Peabody Memphism, 149 Union Avenue, Memphis, TN 38103, Phone: 901-529-4000.

Purpose: In accordance with the Federal Advisory Committee Act (FACA), Public Law 92-463, as amended (5 U.S.C. Appendix 2), the U.S. Election Assistance Commission (EAC) Standards Board will meet to address its responsibilities under the Help America Vote Act of 2002 (HAVA), to present its views on issues in the administration of Federal elections, formulate recommendations to the EAC, and receive updates on EAC activities.

Agenda: The Standards Board will receive an overview and updates on EAC agency operations. The Board will receive presentations from ODNI—unclassified Intel briefings—panel discussions on Disaster Management & Recovery Working Group presentations, EAVS and the Department of Justice. The Standards Board will receive updates on the Voluntary Voting System Guidelines (VVSG) 2.0 and on the Technical Requirements from EAC staff and NIST. The Standards Board will hold a discussion on the Technical Requirements. The Standards Board will conduct committee breakout sessions and hear committee reports. The Standards Board will fill vacancies on the Executive Board of the Standards Board. The Standards Board will elect new officers, and the Executive Board will appoint Standards Board committee members and chairs, and consider other administrative matters.

Supplementary: Members of the public may submit relevant written statements to the Standards Board with respect to the meeting no later than 5 p.m. EDT on Monday, April 8, 2019. Statements may be sent via email at facaboards@eac.gov, via standard mail addressed to the U.S. Election Assistance Commission, 1335 East West Highway, Suite 4300, Silver Spring, MD 20910, or by fax at 301-734-3108.

This meeting will be open to the public.

Person to contact for information: Shirley Hines, Telephone: (301) 563-3958.

Clifford D. Tatum,
General Counsel, U.S. Election Assistance Commission.

[FR Doc. 2019-06050 Filed 3-28-19; 8:45 am]

BILLING CODE 6820-KF-P